DEPARTMENT OF DEFENSE

Department of the Navy

Notice of Intent To Prepare a Supplement to the Draft Environmental Impact Statement for the TRIDENT Support Facilities Explosives Handling Wharf, Naval Base Kitsap at Bangor, Silverdale, Kitsap County, WA

AGENCY: Department of the Navy, DoD.

ACTION: Notice.

SUMMARY: Pursuant to section 102 of the National Environmental Policy Act of 1969, and the regulations implemented by the Council on Environmental Quality (40 CFR parts 1500-1508), the Department of the Navy (DoN) announces its intent to prepare a Supplement to the Draft Environmental Impact Statement (DEIS) for the proposed second Explosives Handling Wharf (EHW-2) at Naval Base Kitsap at Bangor, Silverdale, WA. The Supplement to the DEIS will focus on the methodology used to assess the potential for injurious impacts to the marbled murrelet from impact pile driving, the construction and operation of new facilities and associated infrastructure, and compensatory mitigation options under consideration.

Dates and Addresses: Written comments must be submitted within 45 days of the Federal Register publication date for the U.S. Environmental Protection Agency (EPA) Notice of Availability (NOA) of this Supplement to the DEIS, and should be addressed to: Naval Facilities Engineering Command Northwest, 1101 Tautog Circle, Silverdale, WA 98315-1101, Attn: Christine Stevenson, EHW-2 EIS Project Manager. Written comments may also be submitted online at http://ehw.nbkeis.com during the comment period.

FOR FURTHER INFORMATION CONTACT: Naval Facilities Engineering Command Northwest, 1101 Tautog Circle, Silverdale, WA 98315-1101, Attn: Christine Stevenson, EHW-2 EIS Project Manager, 360-396-0080; or http://ehw.nbkeis.com.

SUPPLEMENTARY INFORMATION: On May 15, 2009, the DoN provided notice in the Federal Register (74 FR 22900) of its intent to prepare an EIS for TRIDENT Support Facilities EHW-2, Naval Base Kitsap at Bangor, Silverdale, Kitsap County, WA and to announce public scoping meetings. The DoN held public scoping meetings in Poulsbo, Port Ludlow, and Seattle, WA during June 2009. The DoN prepared and filed a DEIS with the EPA to evaluate the potential environmental effects of constructing and operating an EHW-2 at Naval Base Kitsap Bangor. A NOA was published in the Federal Register by the EPA on March 18, 2011 (76 FR 14968) for the DoN's DEIS, announcing availability of the DEIS and commencing the 45 day public comment period. The DoN extended the public comment period to 60 days and published a notice of extension of the comment period for the DEIS in the Federal Register on May 3, 2011 (76 FR 24868). The EPA published a NOA revision on May 13, 2011 (76 FR 28029) announcing the comment period extension. The DoN's Notice of Public Hearing for the DEIS was published in the Federal Register on March 21, 2011 (76 FR 15302). Public hearings were held in Poulsbo, Chimacum, and Seattle, WA to receive oral and written comments on the Draft EIS.

This Supplement to the DEIS will include analysis of new information that has become available since release of the DEIS. The DEIS analysis of noise impacts to the marbled murrelet, a species listed as federally threatened under the Endangered Species Act, was based on an underwater physical injury threshold of 180 dBpeak re: 1µPa for any single impact hammer strike. Concurrent with publication of the DEIS, the U.S. Fish and Wildlife Service (USFWS) proposed an interim criterion of 183 dB Sound Exposure Level (SEL) re: 1µPa²-sec. The USFWS and the DoN collaborated to form the Marbled Murrelet Science Panel to assist in development of a scientifically-based injury criterion. The USFWS accepted the panel's recommendation and notified the DoN on August 5, 2011 that the Endangered Species Act section 7 consultation on EHW-2 would be based on this new criterion. This Supplement analyzes the impacts to the marbled murrelet for all alternatives, based on the new underwater noise injury criterion of 202 dB SEL re: 1µPa²-sec cumulative of all impact hammer strikes in a 24-hour period.

The DEIS analyzed the impacts of modifying or demolishing approximately 20 existing facilities and/or structures in proximity to the EHW-2 to comply with Department of Defense Explosives Safety Board and Naval Ordnance Safety and Security Activity requirements to protect buildings located in the vicinity of explosives handling operations. Since release of the DEIS, the DoN has determined that four new buildings and associated infrastructure would be constructed to replace the functions of five buildings to be demolished. This Supplement will analyze the impacts from construction and operation of the four new buildings and associated infrastructure. Three buildings would be constructed on a 2.6 acre upland site located northwest of Service Pier and 2.2 miles south of the existing EHW. These buildings would house the functions of an Administrative/Construction Field Office, an Inert Storage building, a Rigging Shop, and a Refit Support Facility and would include paved and fenced storage areas, associated roads, parking, and sidewalks. The fourth building, a pure water facility, would be constructed along the Bangor waterfront at the end of Delta Pier on a 0.5 acre site located approximately 1.0 miles south of the existing EHW. This facility would house the function of the existing Pure Water Facility to be demolished and would consist of a treatment building, an auxiliary water storage tank, liquid nitrogen storage tank, sewage tank and pump, loading aprons, parking areas, and new water lines between the facility and Delta Pier.

The DEIS presented compensatory mitigation the DoN is considering and identified the In Lieu Fee (ILF) Program as the preferred compensatory mitigation for the unavoidable impacts to aquatic resources from the proposed action as described in the Mitigation Action Plan in the DEIS. Since the public release of the DEIS, further development of the ILF Program has occurred. In addition to the preferred ILF compensatory mitigation strategy, the DoN is also considering other compensatory mitigation alternatives. The DoN continues to review the feasibility, habitat values, and potential benefits of all mitigation alternatives. This Supplement discusses compensatory mitigation alternatives in regard to Dabob Bay Conservation and Washington State Parks Mitigation.

The DoN is soliciting comments on the Supplement to the DEIS. Federal, state, and local agencies, American Indian tribes, and interested persons are encouraged to provide written comments. All written comments will become part of the public record and will be responded to in the Final EIS. Written comments must be postmarked within 45 days of the Federal Register publication date for the EPA's NOA of this Supplement to the DEIS. Written comments should be submitted to: Naval Facilities Engineering Command Northwest, 1101 Tautog Circle, Silverdale, WA 98315-1101, Attn: Christine Stevenson, EHW-2 EIS Project Manager. Written Comments may also be submitted online at http://ehw.nbkeis.com during the comment period.

All public comments previously received during the March through May 2011 DEIS public comment period are still valid and will be considered and addressed in the Final EIS for this action. Previously submitted comments need not be resubmitted. A NOA of the Supplement to the DEIS will be published by the EPA in the Federal Register. No decision will be made to implement the proposed action until the EIS process is completed and a Record of Decision is signed by the DoN.

Dated: September 28, 2011.
J. M. Beal,
Lieutenant Commander, Office of the Judge Advocate General, U.S. Navy, Federal Register Liaison Officer.

[FR Doc. 2011-25421 Filed 9-30-11; 8:45 am]

BILLING CODE 3810-FF-P